DEPARTMENT OF COMMERCE

National Oceanic and Atmospheric Administration

[I.D. 072704D]

Fisheries of the Caribbean, Gulf of Mexico and South Atlantic; Fishery Management Plan for the Coastal Migratory Pelagic Resources of the Gulf of Mexico and South Atlantic Region; Environmental Assessment for Amendment 15

AGENCY: National Marine Fisheries Service (NMFS), National Oceanic and Atmospheric Administration (NOAA), Commerce.

ACTION: Notice announcing the preparation of an environmental assessment (EA).

SUMMARY: NMFS, in cooperation with the Gulf of Mexico and the South Atlantic Fishery Management Councils (Councils), is preparing an EA in accordance with the National Environmental Policy Act (NEPA) for Amendment 15 to the Fishery Management Plan for Coastal Migratory Pelagic Resources (Amendment 15). This notice is intended to inform the public of the change from the preparation of a draft supplemental environmental impact statement (DSEIS) to the preparation of an EA for Amendment 15.

FOR FURTHER INFORMATION CONTACT: Rick Leard; telephone: 813-228-2815 ext. 228; fax: 813-225-7015; e-mail: Rick.Leard@gulfcouncil.org; or Steve Branstetter; telephone: 727-570-5796; fax: 727-570-5583; e-mail: steve.branstetter@noaa.gov.

SUPPLEMENTARY INFORMATION: On February 13, 2004 (69 FR 7187) and April 9, 2004 (69 FR 18875), NMFS and the Councils published Notices of Intent in the Federal Register to prepare a DSEIS and to announce scoping meetings regarding the actions proposed in Amendment 15. Amendment 15 proposes two actions: (1) consideration of alternatives to address limited access in the king mackerel fishery of the Gulf of Mexico and South Atlantic region, and (2) a possible change in the fishing year for Atlantic migratory groups of king and Spanish mackerel.

The fishery for king mackerel operates under a moratorium on the issuance of new commercial vessel permits. The moratorium is scheduled to expire on October 15, 2005. Amendment 15 examines alternatives that would allow the moratorium to expire, extend the existing moratorium for a designated time frame, or establish a more permanent limited access system for the king mackerel fishery.

The current fishing year for Atlantic migratory groups of both king and Spanish mackerel extends from April 1 through March 31. The Councils are considering a potential change in the fishing year from an April 1 opening to either a January 1 opening or a March 1 opening.

Based on comments received during the scoping process, and further analyses of the environmental impacts of the actions proposed in Amendment 15, NMFS and the Councils do not anticipate any significant impacts on the human environment. Consequently, NMFS and the Councils are initially preparing an EA rather than proceeding with the development of a DSEIS. If the EA results in a Finding of No Significant Impact (FONSI), the EA and FONSI will be the final environmental documents required by NEPA. If the EA reveals that significant environmental impacts may be reasonably expected to result from the proposed actions, NMFS and the Councils will develop a DSEIS to further evaluate those impacts.

Authority: 16 U.S.C. 1801 et seq.

Dated: July 29, 2004.
Alan D. Risenhoover,
Acting Director, Office of Sustainable Fisheries, National Marine Fisheries Service.

[FR Doc. 04-17669 Filed 8-2-04; 8:45 am]

BILLING CODE 3510-22-S